DEPARTMENT OF HEALTH AND HUMAN SERVICES

Centers for Disease Control and Prevention

Disease, Disability, and Injury Prevention and Control Special Emphasis Panel: Active Surveillance for Pertussis—Surveillance for Vaccine Preventable Disease as a Foundation for Evaluating the Effectiveness and Impact of an Adolescent/Adult Pertussis Immunization Program and for Evaluating the Feasibility of a Pediatric Hospital-Based Sentinel Surveillance Network for Vaccine Preventable Diseases, Program Announcement #03101 and Solicitation 2003-N-0837

In accordance with section 10(a)(2) of the Federal Advisory Committee Act (Pub. L. 92-463), the Centers for Disease Control and Prevention (CDC) announces the following meeting:

Name: Disease, Disability, and Injury Prevention and Control Special Emphasis Panel (SEP): Active Surveillance for Pertussis-Surveillance for Vaccine Preventable Disease as a Foundation for Evaluating the Effectiveness and Impact of an Adolescent/Adult Pertussis Immunization Program and for Evaluating the Feasibility of a Pediatric Hospital-Based Sentinel Surveillance Network for Vaccine Preventable Diseases, Program Announcement #03101 and Solicitation 2003-N-0837.

Times and Dates: 6 p.m.-7 p.m., June 26, 2003. (Open) 7 p.m.-9 p.m., June 26, 2003. (Closed) 8 a.m.-4:30 p.m., June 27, 2003. (Closed)

Place: Doubletree Hotel, 3342 Peachtree Road, NE., Atlanta, GA 30326, Telephone 404.231.1234.

Status: Portions of the meeting will be closed to the public in accordance with provisions set forth in section 552b(c) (4) and (6), Title 5 U.S.C., and the Determination of the Director, Management Analysis and Services Office, CDC, pursuant to Public Law 92-463.

Matters To Be Discussed: The meeting will include the review, discussion, and evaluation of applications received in response to Program Announcement #03101 and Solicitation 2003-N-0837.

FOR FURTHER INFORMATION CONTACT: Kim Lane, Associate Director for Management and Operations, National Immunization Program, CDC, 1600 Clifton Road, NE., MS-E05, Atlanta, GA 30333, Telephone 404—639-8201.

The Director, Management Analysis and Services Office has been delegated the authority to sign Federal Register notices pertaining to announcements of meetings and other committee management activities, for both the Centers for Disease Control and Prevention and the Agency for Toxic Substances and Disease Registry.

Dated: May 27, 2003.
Alvin Hall,
Director, Management Analysis and Services Office, Centers for Disease Control and Prevention (CDC).

[FR Doc. 03-13653 Filed 5-30-03; 8:45 am]

BILLING CODE 4163-18-P